DEPARTMENT OF HEALTH AND HUMAN SERVICES

Health Care Financing Administration

[Document Identifier: HCFA-1965, HCFA-2649, HCFA-5011A & HCFA-5011B]

Agency Information Collection Activities: Submission For OMB Review; Comment Request

In compliance with the requirement of section 3506(c)(2)(A) of the Paperwork Reduction Act of 1995, the Health Care Financing Administration (HCFA), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Request for Hearing—Part B Medicare Claim and Supporting Regulations in 42 CFR 405.821; Form No.: HCFA-1965 (0938-0034); Use: Section 1869 of the Social Security Act authorizes a hearing for any individual who is dissatisfied with any determination and amount of benefit paid. This form is used so that a party may request a hearing by a Hearing Officer because the review determination failed to satisfy the appellant. Frequency: Annually, Quarterly and Monthly; Affected Public: Individual or Households, and Not-for-profit institutions; Number of Respondents: 55,000; Total Annual Responses: 55,000; Total Annual Hours: 9,167.

2. Type of Information Collection Request: Extension of a currently approved collection; Title of Information Collection: Request for Reconsideration of Part A Insurance Benefits and Supporting Regulations in 42 CFR 405.711; Form No.: HCFA-2649 (0938-0045); Use: Section 1869 of the Social Security Act authorizes a hearing for any individual who is dissatisfied with the intermediary's Part A determination or the benefit amount paid. This form is used by a party to request a reconsideration of the initial determination of benefits. Frequency: Annually, Quarterly and Monthly; Affected Public: Individuals or Households, and Not-for-profit institutions; Number of Respondents: 62,000; Total Annual Responses: 62,000; Total Annual Hours: 15,500.

3. Type of Information Collection Request: Extension of a currently approved collection; Title of Information Collection: Request for Part A Medicare Hearing by an Administrative Law Judge and Supporting Regulations in 42 CFR 498 Subpart D and E; Form No.: HCFA-5011A-U6 (0938-0486); Use: Section 1869 of the Social Security Act authorizes a hearing for any individual who is dissatisfied with the intermediary's Part A determination or the amount paid. This form is used by the beneficiary or other qualified appellant to request a hearing by an Administrative Law Judge if the reconsideration determination fails to satisfy the appellant. Frequency: Annually, Quarterly and Monthly; Affected Public: Individuals or Households, and Not-for-profit institutions; Number of Respondents: 10,000; Total Annual Responses: 10,000; Total Annual Hours: 2,500.

4. Type of Information Collection Request: Extension of a currently approved collection; Title of Information Collection: Request for Part B Medicare Hearing by an Administrative Law Judge and Supporting Regulations in 42 CFR 498 Subpart D and E; Form No.: HCFA-5011B-U6 (0938-0567); Use: Section 1869 of the Social Security Act authorizes a hearing for any individual who is dissatisfied with the carrier's Part B determination or the amount paid. This form is used by the beneficiary or other qualified appellant to request a hearing by an Administrative Law Judge if the hearing officer's decision fails to satisfy the appellant. Frequency: Annually, Quarterly and Monthly; Affected Public: Individuals or Households, and Not-for-profit institutions; Number of Respondents: 10,000; Total Annual Responses: 10,000; Total Annual Hours: 2,500.

To obtain copies of the supporting statement for the proposed paperwork collections referenced above, access HCFA's Web Site Address at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, D.C. 20503.

Dated: August 3, 2000.
John P. Burke III,
HCFA Reports Clearance Officer, HCFA, Office of Information Services, Security and Standards Group, Division of HCFA Enterprise Standards.

[FR Doc. 00-24344 Filed 9-21-00; 8:45 am]

BILLING CODE 4120-03-P